CONSUMER PRODUCT SAFETY COMMISSION

16 CFR Chapter II

[Docket No. CPSC-2015-0030]

Notice of Availability: CPSC Plan for Retrospective Review of Existing Rules

AGENCY: U.S. Consumer Product Safety Commission.

ACTION: Notice of availability.

SUMMARY: The Consumer Product Safety Commission (“Commission,” or “CPSC”) has approved a document titled, “Plan for Retrospective Review of Existing Rules.” CPSC seeks comments on this plan.

DATES: Submit comments by December 28, 2015.

ADDRESSES: You may submit comments, identified by Docket No. CPSC-2015-0030, by any of the following methods:

Electronic Submissions: Submit electronic comments to the Federal eRulemaking Portal at: http://www.regulations.gov. Follow the instructions for submitting comments. The Commission does not accept comments submitted by electronic mail (email), except through www.regulations.gov. The Commission encourages you to submit electronic comments by using the Federal eRulemaking Portal, as described above.

Written Submissions: Submit written submissions by mail/hand delivery/courier to: Office of the Secretary, Consumer Product Safety Commission, Room 820, 4330 East West Highway, Bethesda, MD 20814; telephone (301) 504-7923.

Instructions: All submissions received must include the agency name and docket number for this document. All comments received may be posted without change, including any personal identifiers, contact information, or other personal information provided, to: http://www.regulations.gov. Do not submit confidential business information, trade secret information, or other sensitive or protected information that you do not want to be available to the public. If furnished at all, such information should be submitted in writing.

Docket: For access to the docket to read background documents or comments received, go to: http://www.regulations.gov, and insert the docket number CPSC-2015-0030, into the “Search” box, and follow the prompts.

FOR FURTHER INFORMATION CONTACT: Patricia K. Adair, Directorate for Engineering Sciences, U.S. Consumer Product Safety Commission, 5 Research Place, Rockville, MD 20850-3213; telephone: (301) 987-2238; email: padair@cpsc.gov.

SUPPLEMENTARY INFORMATION: The Commission has approved a Plan for Retrospective Review of Existing Rules (“Plan”) that sets forth a method for identifying and reconsidering certain rules that are obsolete, unnecessary, unjustified, excessively burdensome, counterproductive, or ineffective, or that otherwise would benefit from modification. The Plan's review processes are intended to facilitate the identification of rules that warrant repeal or modification, including those that could benefit from strengthening, complementing, or modernizing. The Plan is consistent with Executive Orders 13579,¹ 13563 ² and 13610.³ The Plan is available on the Commission's Web site at: http://www.cpsc.gov/Global/Regulations-Laws-and-Standards/Rulemaking/DraftrulereviewplanSeptember2015Final.pdf. Please submit comments as directed in the ADDRESSES section of this document.

¹ 76 FR 41587 (July 11, 2011). The President. Executive Order 13579 of July 11, 2011. Regulation and Independent Regulatory Agencies.

² 76 FR 3821 (January 18, 2011). The President. Executive Order 13563 of January 18, 2011. Improving Regulation and Regulatory Review.

³ 77 FR 28469 (May 10, 2012). The President. Executive Order 13610 of May 10, 2012. Identifying and Reducing Regulatory Burdens.

Dated: October 15, 2015.
Todd A. Stevenson,
Secretary, Consumer Product Safety Commission.

[FR Doc. 2015-26695 Filed 10-23-15; 8:45 am]

BILLING CODE 6355-01-P